DEPARTMENT OF TRANSPORTATION

Federal Aviation Administration

14 CFR Part 71

[Docket No. FAA-2015-7857; Airspace Docket No. 15-ASW-22]

Amendment of Class D and Class E Airspace for the Following Oklahoma Towns: Antlers, OK; Oklahoma City, OK; Oklahoma City Wiley Post Airport, OK; and Shawnee, OK

AGENCY: Federal Aviation Administration (FAA), DOT.

ACTION: Final rule.

SUMMARY: This action modifies Class D airspace, Class E airspace designated as surface areas, and Class E airspace extending upward from 700 feet above the surface at Antlers Municipal Airport, Antlers, OK; El Reno Regional Airport, Oklahoma City, OK; Wiley Post Airport, Oklahoma City Wiley Post Airport, OK; and Shawnee Regional Airport, Shawnee, OK. The decommissioning of non-directional radio beacons (NDB) and/or cancellation of NDB approaches due to advances in Global Positioning System (GPS) capabilities have made this action necessary for the safety and management of Instrument Flight Rules (IFR) operations at the above locations. This action also updates the airport names of University of Oklahoma Westheimer Airport, Norman, OK; David Jay Perry Airport, Goldsby, OK; El Reno Regional Airport; Shawnee Regional Airport; Chandler Regional Airport, OK; and Sundance Airport, Oklahoma City, OK, to coincide with the FAA's aeronautical database. Additionally, this action updates the geographic coordinates for Tinker AFB, Oklahoma City, OK; El Reno Regional Airport; Wiley Post Airport; Antlers Municipal Airport; Sundance Airport; Seminole Municipal Airport, OK; Prague Municipal Airport, OK; Chandler Regional Airport, OK; Tilghman NDB; Cushing Municipal Airport, OK; Cushing NDB; and Cushing Regional Hospital Heliport, OK, to coincide with the FAA's aeronautical database.

DATES: Effective 0901 UTC, September 15, 2016. The Director of the Federal Register approves this incorporation by reference action under Title 1, Code of Federal Regulations, part 51, subject to the annual revision of FAA Order 7400.9 and publication of conforming amendments.

ADDRESSES: FAA Order 7400.9Z, Airspace Designations and Reporting Points, and subsequent amendments can be viewed online at http://www.faa.gov/air_traffic/publications/. For further information, you can contact the Airspace Policy Group, Federal Aviation Administration, 800 Independence Avenue SW., Washington, DC, 20591; telephone: 202-267-8783. The Order is also available for inspection at the National Archives and Records Administration (NARA). For information on the availability of FAA Order 7400.9Z at NARA, call 202-741-6030, or go to http://www.archives.gov/federal_register/code_of_federal-regulations/ibr_locations.html.

FAA Order 7400.9, Airspace Designations and Reporting Points, is published yearly and effective on September 15.

FOR FURTHER INFORMATION CONTACT: Jeffrey Claypool, Federal Aviation Administration, Operations Support Group, Central Service Center, 10101 Hillwood Parkway, Fort Worth, TX, 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class D airspace, Class E airspace designated as surface areas, and Class E airspace extending upward from 700 feet above the surface at Antlers Municipal Airport, Antlers, OK; El Reno Regional Airport, Oklahoma City, OK; Wiley Post Airport, Oklahoma City Wiley Post Airport, OK; and Shawnee Regional Airport, Shawnee, OK.

History

On March 11, 2016, the FAA published in the Federal Register a notice of proposed rulemaking (NPRM) to modify Class D airspace, Class E airspace designated as surface areas, and Class E airspace extending upward from 700 feet above the surface at Antlers Municipal Airport, Antlers, OK; El Reno Regional Airport, Oklahoma City, OK; Wiley Post Airport, Oklahoma City Wiley Post Airport, OK; and Shawnee Regional Airport, Shawnee, OK (81 FR 12845). Interested parties were invited to participate in this rulemaking effort by submitting written comments on the proposal to the FAA. Two comments were received.

One comment from Mr. Robert Pigott, Aeronautical Information Services, identified an error in the geographic coordinates for the Tilghman NDB and Antlers Municipal Airport, and identified that the name of Sundance Airport had been changed. The FAA agrees with the commenter and amends the geographic coordinates for Antlers Municipal Airport and the Tilghman NDB, as well as noting the name change to Sundance Airport.

Another comment was received from Carolyn Bloom, Aeronautical Information Services, advising that the geographic coordinates for Chandler Regional Airport had been updated after the NPRM was published, and that the name of University of Oklahoma Westheimer Airport had been changed. The FAA agrees with the commenter and amends the geographic coordinates for Chandler Regional Airport, and the name of the University of Oklahoma Westheimer Airport.

Class D and Class E airspace designations are published in paragraph 5000, 6002, and 6005, respectively, of FAA Order 7400.9Z, dated August 6, 2015, and effective September 15, 2015, which is incorporated by reference in 14 CFR 71.1. The Class D and Class E airspace designations listed in this document will be published subsequently in the Order.

Availability and Summary of Documents for Incorporation by Reference

This document amends FAA Order 7400.9Z, Airspace Designations and Reporting Points, dated August 6, 2015, and effective September 15, 2015. FAA Order 7400.9Z is publicly available as listed in the ADDRESSES section of this document. FAA Order 7400.9Z lists Class A, B, C, D, and E airspace areas, air traffic service routes, and reporting points.

The Rule

This amendment to Title 14, Code of Federal Regulations (14 CFR) part 71 modifies Class E airspace extending upward from 700 feet above the surface at Antlers Municipal Airport, Antlers, OK; El Reno Regional Airport, Oklahoma City, OK; and Prague Municipal Airport, Shawnee, OK. After review, the FAA found that with the decommissioning of NDBs, cancellation of the NDB approaches, and implementation of area navigation (RNAV) instrument approaches the Class E airspace extending upward from 700 feet above the surface at: Antlers Municipal Airport should be reduced from a 6.5-mile radius to 6.3 miles and the extension to the south of the airport from the 6.5-mile radius to 7.3 miles was no longer required; El Reno Regional Airport should be reduced from a 7.4-mile radius to 6.6 miles; and Prague Municipal Airport should be reduced from a 6.5-mile radius to 6.3 miles and the extension to the north of the airport from the 6.5-mile radius to 8.9 miles was no longer required in accordance with airspace requirements specified in FAA Joint Order 7400.2K. This action is necessary for the safety and management of IFR operations under standard instrument approach procedures.

Additionally, this amendment notes the name change of the following airports: University of Oklahoma Westheimer Airport (formerly University of Oklahoma Westheimer Airpark), Norman, OK; El Reno Regional Airport (formerly El Reno Municipal Airpark); Sundance Airport (formerly Sundance Airpark), Oklahoma City, OK; David Jay Perry Airport, Goldsby, OK (formerly David J. Perry Airport, Norman, OK); Shawnee Regional Airport (formerly Shawnee Municipal Airport); and Chandler Regional Airport (formerly Chandler Municipal Airport). Geographic coordinates are also being updated for the following airports and navigation aids: Tinker AFB; El Reno Regional Airport; Wiley Post Airport; Antlers Municipal Airport; Sundance Airport; Seminole Municipal Airport; Prague Municipal Airport; Chandler Regional Airport; Tilghman NDB; Cushing Municipal Airport; Cushing NDB; and Cushing Regional Hospital Heliport.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.9Z, Airspace Designations and Reporting Points, dated August 6, 2015, and effective September 15, 2015, is amended as follows:

Paragraph 5000 Class D Airspace.

* * * * *

ASW OK D Oklahoma City Wiley Post Airport, OK [Amended]

Oklahoma City, Wiley Post Airport, OK

(Lat. 35°32′03″ N., long. 97°38′49″ W.)

That airspace extending upward from the surface to and including 3,800 feet MSL within a 4.3-mile radius of Wiley Post Airport excluding that airspace within the Oklahoma City, Will Rogers World Airport, OK, Class C airspace area. This Class D airspace area is effective during the specific dates and times established in advance by a Notice to Airmen. The effective date and time will thereafter be continuously published in the Airport/Facility Directory.

Paragraph 6002 Class E Airspace Designated as Surface Areas.

* * * * *

ASW OK E2 Oklahoma City Wiley Post Airport, OK [Amended]

Oklahoma City, Wiley Post Airport, OK

(Lat. 35°32′03″ N., long. 97°38′49″ W.)

Within a 4.3-mile radius of Wiley Post Airport excluding that airspace within the Oklahoma City, Will Rogers World Airport, OK, Class C airspace area. This Class E airspace area is effective during the specific dates and times established in advance by a Notice to Airmen. The effective date and time will thereafter be continuously published in the Airport/Facility Directory.

Paragraph 6005 Class E Airspace Areas Extending Upward From 700 feet or More Above the Surface of the Earth.

* * * * *

ASW OK E5 Antlers, OK [Amended]

Antlers Municipal Airport, OK

(Lat. 34°11′33″ N., long. 95°39′00″ W.)

That airspace extending upward from 700 feet above the surface within a 6.3-mile radius of Antlers Municipal Airport.

* * * * *

ASW OK E5 Oklahoma City, OK [Amended]

Oklahoma City, Will Rogers World Airport, OK

(Lat. 35°23′35″ N., long. 97°36′03″ W.)

Oklahoma City, Tinker AFB, OK

(Lat. 35°24′53″ N., long. 97°23′12″ W.)

Norman, University of Oklahoma Westheimer Airport, OK

(Lat. 35°14′44″ N., long. 97°28′20″ W.)

University of Oklahoma Westheimer Airport ILS Localizer

(Lat. 35°14′58″ N., long. 97°27′51″ W.)

Goldsby, David Jay Perry Airport, OK

(Lat. 35°09′18″ N., long. 97°28′13″ W.)

Oklahoma City, Clarence E. Page Municipal Airport, OK

(Lat. 35°29′17″ N., long. 97°49′25″ W.)

El Reno Regional Airport, OK

(Lat. 35°28′22″ N., long. 98°00′21″ W.)

Oklahoma City, Wiley Post Airport, OK

(Lat. 35°32′03″ N., long. 97°38′49″ W.)

Oklahoma City, Sundance Airport, OK

(Lat. 35°36′07″ N., long. 97°42′22″ W.)

That airspace extending upward from 700 feet above the surface within an 8.1-mile radius of Will Rogers World Airport, and within an 8.2-mile radius of Tinker AFB, and within an 8.9-mile radius of University of Oklahoma Westheimer Airport, and within 1.8 miles each side of the University of Oklahoma Westheimer Airport ILS Localizer southwest course extending from the 8.9-mile radius to 12 miles southwest of the airport, and within a 6.3-mile radius of David Jay Perry Airport, and within a 6.5-mile radius of Clarence E. Page Airport, and within a 6.6-mile radius of El Reno Regional Airport, and within a 6.8-mile radius of Wiley Post Airport, and within a 6.8-mile radius of Sundance Airport.

* * * * *

ASW OK E5 Shawnee, OK [Amended]

Shawnee Regional Airport, OK

(Lat. 35°21′26″ N., long. 96°56′34″ W.)

Seminole, Seminole Municipal Airport, OK

(Lat. 35°16′28″ N., long. 96°40′31″ W.)

Prague Municipal Airport, OK

(Lat. 35°28′51″ N., long. 96°43'08″ W.)

Chandler Regional Airport, OK

(Lat. 35°43′27″ N., long. 96°49′13″ W.)

Tilghman NDB

(Lat. 35°43′31″ N., long. 96°49′07″ W.)

Cushing Municipal Airport, OK

(Lat. 35°57′00″ N., long. 96°46′24″ W.)

Cushing NDB

(Lat. 35°53′24″ N., long. 96°46′24″ W.)

Cushing Regional Hospital Heliport, OK, Point In Space Coordinates

(Lat. 35°58′41″ N., long. 96°45′27″ W.)

That airspace extending upward from 700 feet above the surface within a 7-mile radius of Shawnee Regional Airport, and within a 6.6-mile radius of Seminole Municipal Airport, and within a 6.3-mile radius of Prague Municipal Airport, and within a 6.4-mile radius of Chandler Regional Airport, and within 2.5 miles each side of the 352° bearing from the Tilghman NDB extending from the 6.4-mile radius to 7.3 miles north of the airport, and within a 6.5-mile radius of Cushing Municipal Airport and within 2.1 miles each side of the 185° bearing from the Cushing NDB extending from the 6.5-mile radius to 9.3 miles south of the airport, and that airspace within a 6-mile radius of the Point In Space serving Cushing Regional Hospital Heliport.

Issued in Fort Worth, Texas, on May 25, 2016.
Walter Tweedy,
Acting Manager, Operations Support Group, ATO Central Service Center.

[FR Doc. 2016-13146 Filed 6-3-16; 8:45 am]

BILLING CODE 4910-13-P